DEPARTMENT OF TRANSPORTATION

Office of the Secretary

[OST Docket No. 2012-0028]

Notice of Submission of Proposed Information Collection to OMB

AGENCY: Office of the Secretary, Department of Transportation (DOT).

ACTION: Notice and request for comments.

SUMMARY: In accordance with the Paperwork Reduction Act of 1995 (44 U.S.C. chapter 35, as amended) this notice announces the Department of Transportation's (Department) intention to request the renewal of an Office of Management and Budget (OMB) control number for the collection of emergency contingency plans for tarmac delays from U.S. carriers and U.S. airports as required by the FAA Modernization and Reform Act (Act). On April 16, 2012, the Department of Transportation submitted to OMB for review and clearance utilizing emergency review procedures information collection requests related to the submission by U.S. carriers and U.S. airports of tarmac delay contingency plans for review and approval by the Department, as well as the public posting of those plans, as set forth in the Act. OMB issued the Department a control number authorizing these new collections of information until November 30, 2012 (OMB Control Number 2105-0566).

DATES: Comments on this notice must be received by August 3, 2015. Interested persons are invited to submit comments regarding this proposal.

ADDRESSES: To ensure that you do not duplicate your docket submissions, please submit them by only one of the following means:

• Federal eRulemaking Portal: Go to http://www.regulations.gov and follow the online instructions for submitting comments.

• Mail: Docket Management Facility, U.S. Department of Transportation, 1200 New Jersey Ave. SE., West Building Ground Floor Room W-12/140, Washington, DC 20590-0001;

• Hand delivery: West Building Ground Floor, Room W-12/140, 1200 New Jersey Ave. SE., between 9 a.m. and 5 p.m., Monday through Friday, except Federal holidays. The telephone number is 202-366-9329.

FOR FURTHER INFORMATION CONTACT: Kimberly Graber, Office of the Secretary, Office of the Assistant General Counsel for Aviation Enforcement and Proceedings (C-70), Department of Transportation, 1200 New Jersey Ave. SE., Washington, DC 20590, 202-366-9342 (voice) 202-366-7152 (fax) or at Kimberly.Graber@dot.gov.

SUPPLEMENTARY INFORMATION: The FAA Modernization and Reform Act, which was signed into law on February 14, 2012, required U.S. carriers that operate scheduled passenger service or public charter service using any aircraft with a design capacity of 30 or more seats, and operators of large hub, medium hub, small hub, or non-hub U.S. airports, to submit emergency contingency plans for lengthy tarmac delays to the Secretary of Transportation for review and approval no later than May 14, 2012. The Act also required each covered carrier and airport to ensure public access to its plan after DOT approval by posting the plan on its Web site. In addition to requiring the initial submission of emergency contingency plans, the Act requires U.S. carriers to submit an updated plan every 3 years. Further, the Act requires airport operators to submit an updated plan every 5 years. The information collection requirements are specifically required by statute and are not being imposed as an exercise of the Department's discretion.

On April 16, 2012, the Department submitted to OMB for review and clearance information collection requests regarding submission of the plans and OMB approved this information collection. The Department then issued a notice in the Federal Register stating how covered U.S. carriers and airports should submit the required plans to the Department through an online system (77 FR 27267, May 9, 2012). The Department intends to ask for a renewal of the OMB control number for U.S. carriers and airport operators to submit plan updates.

A Federal agency generally cannot conduct or sponsor a collection of information, and the public is generally not required to respond to an information collection, unless it is approved by the OMB under the PRA and displays a currently valid OMB Control Number. In addition, notwithstanding any other provisions of law, no person shall generally be subject to monetary penalty for failing to comply with a collection of information if the collection of information does not display a valid OMB Control Number. See 5 CFR 1320.5(a) and 1320.6.

For each of these information collections, the title, a description of the respondents, and an estimate of the annual recordkeeping and periodic reporting burden are set forth below:

1. Requirement to submit tarmac delay plan to DOT for review and approval.

Title: Filing of Tarmac Delay Plan to DOT.

Respondents: Each large, medium, small and non-hub airport in the U.S.; U.S. carriers that operate scheduled passenger service or public charter service using any aircraft with a design capacity of 30 or more seats.

Estimated Number of Respondents: 420 U.S. airports and 65 U.S. airlines.

Frequency: Every 5 years for covered U.S. airports; every 3 years for covered U.S. airlines.

Estimated Total Burden on Respondents: For U.S. airports—247.5 hours (25 airports not covered in 2012 × 2 hours) + (395 existing airports × .5 hours) = 247.5 hours. This estimate is based on the following facts: Tarmac delay plans for submission are general in nature and do not consist of extensive airport-specific customization. Airport associations have prepared templates for use by U.S. airports which require very little additional information to be customized for individual airports. Airport associations' templates have been the template for most of the airport plans submitted. For an airport that had not prepared and submitted a plan to meet the requirement in 2012 (25 airports), we estimate 2 hours to review the templates, to prepare by entering the airport-specific information, and to submit the plan through the Department's electronic submission system. We estimate there are or will be approximately 25 airports that will be newly covered by the Act by the next submission deadline and that did not previously submit plans to meet the requirement in 2012.¹ For U.S. airports that have already prepared and submitted a plan and will continue to be subject to this requirement (395 airports), they will need to review and update the plan through the Department's electronic submission system. We estimate .5 hour for these 395 airports to review, update, and submit the plan through the Department's electronic submission system.

¹ These estimates are based on currently available data. Our estimates assume that the number of covered airports will increase between 2012 and 2017 so that there will be a larger number of covered airports by the date of the next submission requirement for covered airports in 2017. There were approximately 395 airports that were coverend in 2012. Based on current FAA data, it appears that approximately 416 airports now meet the threshold of the Act that requires them to submit plans. http://www.faa.gov/airports/planning_capacity/passenger_allcargo_stats/passenger/media/cy13-commercial-service-enplanements.pdf. Based on fluctuations in airport traffic combined with the recent trend of increasing air traffic, we anticipate that approximately 25 airports that were not covered by the Act in 2012 now meet or will meet the threshold and be covered airports by 2017, the next required submission date. This number includes an assumption that a small number of airports that were previously covered will no longer be covered by 2017.

For U.S. airlines—40 hours (60 existing carriers × .5 hours) + (5 new carriers × 2 hours) = 40 hours.² Airline plans for submission generally are not very detailed and provide only the level of information required to meet the statutory requirement. Although airlines often choose to prepare more detailed plans for internal use, the submitted plans are brief. In addition, currently operating U.S. carriers are already required to have such plans in place since this is a continuing requirement and the statute has already been in place since 2012. Therefore we estimate that most covered U.S. carriers (an estimated 60) will spend .5 hour to review, update, and submit the plan through the Department's electronic submission system. We estimate that up to 5 U.S. carriers may meet the threshold for the filing requirement in 2015 but may not have submitted a plan previously. We estimate those carriers will spend 2 hours to prepare and submit the plan through the Department's electronic submission system.

² These estimates are based on the number of airlines that were required to file in the past and the potential for an increased number of airlines that may be covered by the date of the next submission requirement for airlines.

2. Requirement to ensure public access to tarmac delay plan after DOT approval (as required by the Act).

Title: Posting of Tarmac Delay Plan on Web sites.

Respondents: Each large, medium, small and non-hub airport in the U.S.; U.S. carriers that operate scheduled passenger service or public charter service and foreign air carriers operating to or from the United States, using any aircraft with a design capacity of 30 or more seats.

Estimated Number of Respondents: 420 U.S. airports and 65 U.S. airlines.

Estimated Total Frequency: Every 5 years for covered U.S. airports; every 3 years for covered U.S. airlines (if not already posted or if there are updates).

Burden on Respondents: 121.25 (Average of 15 minutes per respondent (420 U.S. airports and 65 U.S. airlines) to post current plan on Web site).

We invite comments on (a) whether the collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology. All responses to this notice will be summarized and included in the request for OMB approval. All comments will also become a matter of public record on the docket.

Issued this 27 day of May, 2015, at Washington, DC.
Blane A. Workie,
Assistant General Counsel for Aviation Enforcement and Proceedings.

[FR Doc. 2015-13333 Filed 6-1-15; 8:45 am]

BILLING CODE 4910-9X-P